DEPARTMENT OF COMMERCE

Foreign-Trade Zones Board

[Order No. 1366]

Reorganization and Expansion of Foreign-Trade Zone 183 and Subzone 183A (Dell Computer Corporation) Austin, TX

Pursuant to its authority under the Foreign-Trade Zones Act of June 18, 1934, as amended (19 U.S.C. 81a-81u), the Foreign-Trade Zones Board (the Board) adopts the following Order:

Whereas, the Foreign Trade Zone of Central Texas, Inc., grantee of Foreign-Trade Zone 183, submitted an application to the Board for authority to reorganize and expand FTZ 183 and reduce zone space at Subzone 183A (Dell Computer Corporation) in Austin, Texas, within and adjacent to the Austin Customs port of entry (FTZ Docket 18-2004; filed 5/5/04);

Whereas, notice inviting public comment was given in the Federal Register (69 FR 26358, 5/12/04) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize and expand FTZ 183 and reduce zone space at SZ 183A is approved, subject to the Act and the Board's regulations, including Section 400.28, and further subject to the Board's standard 2,000-acre activation limit for the overall general-purpose zone project.

Signed at Washington, DC, this 27th day of January 2005.
Joseph A. Spetrini,
Acting Assistant Secretary of Commerce for Import Administration, Alternate Chairman, Foreign-Trade Zones Board.
Attest:
Dennis Puccinelli,
Executive Secretary.

[FR Doc. 05-2435 Filed 2-7-05; 8:45 am]

BILLING CODE 3510-DS-P